DEPARTMENT OF HEALTH AND HUMAN SERVICES

National Institutes of Health

National Library of Medicine; Notice of Meeting

Pursuant to section 1009 of the Federal Advisory Committee Act, as amended, notice is hereby given of a meeting of the Literature Selection Technical Review Committee.

The meeting will be open to the public as indicated below. Individuals who plan to attend as well as those who need special assistance, such as sign language interpretation or other reasonable accommodations, must notify the Contact Person listed below in advance of the meeting. The open session will be videocast and can be accessed from the NIH Videocasting and Podcasting website (http://videocast.nih.gov/).

The meeting is devoted to the review and evaluation of journals for potential indexing by the National Library of Medicine and will be closed to the public in accordance with the provisions set forth in section 552b(c)(9)(B), Title 5 U.S.C., as amended. Premature disclosure of the titles of the journals as potential titles to be indexed by the National Library of Medicine, the discussions, and the presence of individuals associated with these publications could significantly frustrate the review and evaluation of individual journals.

Name of Committee: Literature Selection Technical Review Committee.

Date: June 27-28, 2024.

Closed: June 27, 2024, 8:30 a.m. to 5:00 p.m.

Agenda: To review and evaluate journals as potential titles to be indexed by the National Library of Medicine.

Place: National Library of Medicine, Building 38, Room 4S412, 8600 Rockville Pike, Bethesda, MD 20892 (In-Person Meeting).

Closed: June 28, 2024, 8:30 a.m. to 9:15 a.m.

Agenda: To review and evaluate journals as potential titles to be indexed by the National Library of Medicine.

Place: National Library of Medicine, Building 38, Room 4S412, 8600 Rockville Pike, Bethesda, MD 20892 (In-Person Meeting).

Contact Person: Dianne Babski, Associate Director, Division of Library Operations, National Library of Medicine, 8600 Rockville Pike, Bethesda, MD 20894, 301-827-4279, babskid@mail.nih.gov.

Open: June 28, 2024, 9:15 a.m. to 10:30 a.m.

Agenda: NLM Directors' Report.

Place: National Library of Medicine, Building 38, Room 4S412, 8600 Rockville Pike, Bethesda, MD 20892 (In-Person Meeting).

Closed: June 28, 2024, 10:30 a.m. to 3:00 p.m.

Agenda: To review and evaluate journals as potential titles to be indexed by the National Library of Medicine.

Place: National Library of Medicine, Building 38, Room 4S412, 8600 Rockville Pike, Bethesda, MD 20892 (In-Person Meeting).

In addition, any interested person may file written comments with the committee by forwarding their statement to the Contact Person listed on this notice at least 10 days in advance of the meeting.

Information is also available on the Institute's/Center's home page: https://www.nlm.nih.gov/medline/medline_about_lstrc.html, where an agenda and any additional information for the meeting will be posted when available.

(Catalogue of Federal Domestic Assistance Program No. 93.879, Medical Library Assistance, National Institutes of Health, HHS).

Dated: April 29, 2024.
Miguelina Perez,
Program Analyst, Office of Federal Advisory Committee Policy.

[FR Doc. 2024-09631 Filed 5-2-24; 8:45 am]

BILLING CODE 4140-01-P